DEPARTMENT OF DEFENSE

Department of the Navy

Notice of Intent To Prepare a Supplement to the Hawaii Range Complex Draft Environmental Impact Statement/Overseas Environmental Impact Statement (SDEIS/OEIS) for a Proposal To Enhance Training, Testing, and Operational Capability Within the Hawaii Range Complex (HRC)

AGENCY: Department of the Navy, DoD.

ACTION: Notice.

SUMMARY: The Department of the Navy (DON) announces its intent to prepare a Supplement to the Draft Environmental Impact Statement/Overseas Environmental Impact Statement (SDEIS/OEIS) for the Hawaii Range Complex (HRC). This SDEIS/OEIS will be focused on the methodology used to analyze potential marine mammal behavioral effects related to mid-frequency active sonar exposure. In addition, DON may make adjustments to the alternatives.

SUPPLEMENTARY INFORMATION: On August 29, 2006, pursuant to section 102(2)(c) of the National Environmental Policy Act of 1969 as implemented by the Council on Environmental Quality regulations (40 CFR parts 1500-1508), and Executive Order 12114 (Environmental Effects Abroad of Major Federal Actions), the DON announced its intent to prepare an EIS/OEIS for the HRC and invited the public to comment on the scope of the EIS/OEIS (71 FR 51188). A DEIS/OEIS was subsequently released on July 27, 2007, (72 FR 41324), which evaluated the potential environmental effects of increasing usage and enhancing the capabilities of the HRC to achieve and maintain Fleet readiness and to conduct current, emerging, and future training and research, development, test, and evaluation (RDT&E) activities. As described in the DEIS/OEIS at section 4.1.2.4.9, a dose function approach was used to evaluate potential behavioral harassment of marine mammals incidental to the use of mid-frequency active sonar during Navy training and testing within the HRC. Since the release of the DEIS/OEIS in July 2007, the DON, in cooperation with NMFS, has further refined the dose function approach. Given the nature of these refinements, the Navy has decided to prepare a SDEIS/OEIS to provide opportunity for public review of the methodology. In addition, DON may make adjustments to the alternatives.

All public comments previously received during the July through September 2007 DEIS/OEIS public review period on the dose function approach and the marine mammals effects analysis are still valid and will be considered in the SDEIS/OEIS and Final EIS/OEIS for this action. Previously submitted comments need not be resubmitted. A notice of availability of the SDEIS/OEIS and dates of the public hearings will be published in the Federal Register at a later date. No decision will be made to implement any alternative in the HRC until the EIS/OEIS process is completed and a Record of Decision is signed by the DON.

FOR FURTHER INFORMATION CONTACT: Public Affairs Officer, Pacific Missile Range Facility, Attention: HRC EIS/OEIS, P.O. Box 128, Kekaha, Kauai, Hawaii 96752-0128. Voice mail 1-866-767-3347 or facsimile at 808-335-4520.

Dated: January 14, 2008.
T.M. Cruz,
Lieutenant, Office of the Judge Advocate General, U.S. Navy, Federal Register Liaison Officer.

[FR Doc. E8-796 Filed 1-16-08; 8:45 am]

BILLING CODE 3810-FF-P